DEPARTMENT OF HOMELAND SECURITY

Federal Emergency Management Agency

44 CFR Part 67

[Docket No. FEMA-B-7445]

Proposed Flood Elevation Determinations

AGENCY: Federal Emergency Management Agency (FEMA), Emergency Preparedness and Response Directorate, Department of Homeland Security.

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E. Hazard Identification Section, Emergency Preparedness and Response Directorate, Federal Emergency Management Agency, 500 C Street SW., Washington, DC 20472, (202) 646-2903.

SUPPLEMENTARY INFORMATION: FEMA proposes to make determinations of BFEs and modified BFEs for each community listed below, in accordance with Section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR Part 10, Environmental Consideration. No environmental impact assessment has been prepared.

Regulatory Flexibility Act. The Mitigation Division Director of the Emergency Preparedness and Response Directorate certifies that this proposed rule is exempt from the requirements of the Regulatory Flexibility Act because proposed or modified BFEs are required by the Flood Disaster Protection Act of 1973, 42 U.S.C. 4104, and are required to establish and maintain community eligibility in the NFIP. No regulatory flexibility analysis has been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376, § 67.4

2. The tables published under the authority of § 67.4 are proposed to be amended as follows:

State | City/town/county | Source of flooding | Location | #Depth in feet above ground. *Elevation in feet. (NGVD): Existing | #Depth in feet above ground. *Elevation in feet. (NGVD): Modified
California | San Joaquin County | Stanislaus River | Approximately 5 miles downstream of State Highway 99 | None | *45
|  |  | Approximately 3 miles upstream of Santa Fe Railroad | None | *93
*Elevation in feet.
Maps are available for inspection at the Department of Public Works, 1810 East Hazelnut Avenue, Stockton, California 95202.
Send comments to The Honorable Leroy Ornellas, Chairman, San Joaquin County Board of Supervisors, 222 East Weber Avenue, Room 701, Stockton, California 85202.
California | Ripon (City), San Joaquin County | Stanislaus River | Approximately 3.3 miles downstream of State Highway 99 | None | *48
|  |  | Approximately 1.3 miles upstream of State Highway 99 | None | *57
*Elevation in feet.
Maps are available for inspection at City Hall, 259 North Wilma Avenue, Ripon, California 95366.
Send comments to The Honorable Tim Hern, Mayor, City of Ripon, 259 North Wilma Avenue, Ripon, California 95366.

Routt County, and Incorporated Areas
Flooding source(s) | Location of referenced elevation | Elevation in feet *(NGVD) Elevation in feet +(NAVD): Effective | Elevation in feet *(NGVD) Elevation in feet +(NAVD): Modified | Communities affected
Burgess Creek | At confluence with Walton Creek | *6,755 | *6,749 | Routt County (Uninc. Areas) and City of Steamboat Springs.
| Just upstream of Burgess Creek Road | None | +7,355
Elk River (Lower Reach) | At confluence with Yampa River | None | +6,533 | Routt County (Uninc. Areas).
| Approximately 1.5 miles upstream of County Road 44 | None | +6,712
Walton Creek | At confluence with Yampa River | *6,754 | +6,759 | Routt County (Uninc. Areas) and City of Steamboat Springs.
| Approximately 850 feet upstream of County Road 24 | None | +6,827
Walton Creek Side Channel | Approximately 500 feet downstream of County Road 24 | None | +6,810 | Routt county (Uninc. Areas).
| At divergence from Walnut Creek main channel | None | +6,825
Yampa River Bypass (near Steamboat Springs) | At confluence with Yampa River | *6,811 | +6,816 | Routt County (Uninc. Areas).
| Approximately 700 feet downstream of divergence from Yampa River | *6,848 | +6,853
Yampa River near Hayden | Approximately 2,600 feet downstream of U.S. Highway 40 | None | +6,314 | Routt County (Uninc. Areas) and Town of Hayden.
| Approximately 1.3 miles upstream of U.S. Highway 40 | None | +6,424
Yampa River Side channel 1 | At confluence with Yampa River main channel | *6,622 | +6,626 | Routt County (Uninc. Areas) and City of Steamboat Springs.
| At divergence from Yampa River main channel | *6,636 | +6,635
Yampa River Side Channel 2 | At confluence with Yampa River main channel | *6,710 | +6,716 | City of Steamboat Springs.
| At divergence from Yampa River main channel | *6,717 | +6,724
Yampa River split Flow at Highway 131 (near Steamboat Springs) | At confluence with Yampa River At divergence from Yampa river | *6,825 *6,838 | +6,830 +6,843 | Routt County (Uninc. Areas)
Yampa River near Steamboat Springs | Approximately 1.5 miles downstream of County Road 179 | None | +6,483 | Routt County (Uninc. Areas) and City of Steamboat Springs.
| Approximately 1.5 miles upstream of State Highway 131 | *6,861 | +6,865
* National Geodetic Vertical Datum (to convert to NAVD, add 4.2 feet to NGVD elevation).
+ North American Vertical Datum.
Addresses
Routt County (Unincorporated Areas)
Maps are available for inspection at the Routt County Courthouse, 136 6th Street, Steamboat Springs, Colorado 80477.
Send comments to the Honorable Douglas B. Monger, Chairman, Routt County Board of Commissioners, P.O. Box 773598, Steamboat Springs, Colorado 80477.
City of Steamboat Springs
Maps are available for inspection at City Hall, 124 Tenth Street, Steamboat Springs, Colorado 80477.
Send comments to the Honorable Paul Strong, Council President, City of Steamboat Springs, P.O. Box 775088.
Town of Hayden
Maps are available for inspection at the Town Hall, 178 West Jefferson, Hayden, Colorado 81639.
Send comments to the Honorable Chuck Grobe, Mayor, Town of Hayden, P.O. Box 190, Hayden, Colorado 81639.

(Catalog of Federal Domestic Assistance No. 83.100, “Flood Insurance.”)

Dated: March 24, 2004.
Anthony S. Lowe,
Mitigation Division Director, Emergency Preparedness and Response Directorate.

[FR Doc. 04-7441 Filed 4-1-04; 8:45 am]

BILLING CODE 9110-12-P